DEPARTMENT OF COMMERCE

International Trade Administration

[Application No. 87-9A001]

Export Trade Certificate of Review

ACTION: Notice of Application to amend the Export Trade Certificate of Review Issued to the Independent Film & Television Alliance, Application no. 89-9A001.

SUMMARY: The Office of Competition and Economic Analysis (“OCEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Competition and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7025-X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 87-9A001.”

The Independent Film and Television Alliance original Certificate was issued on April 10, 1987 (52 FR 12578, April 17, 1987). A summary of the current application for an amendment follows.

Summary of the Application

Applicant: Independent Film and Television Alliance (“IFTA”), 10850 Wilshire Blvd. 9th Floor Los Angeles, CA 90024.

Contact: Jerald A. Jacobs, Attorney, Telephone: (202) 663-8011.

Application No.: 87-9A001.

Date Deemed Submitted: June 4, 2013.

Proposed Amendment: IFTA seeks to amend its Certificate to:

1. Add the following companies as new Members of IFTA's Certificate: Altitude Film Entertainment Limited (London, United Kingdom), Archstone Distribution, LLC (Los Angeles, CA), Artis Films Romania (Bucharest, Romania), Bos Entertainment, Inc., d/b/a The Exchange (Los Angeles, CA), Callister Technology and Entertainment LLC d/b/a Garden Thieves Pictures (Washington, DC), Corsan NV (Antwerp, Belgium), DARO Film Distribution GmbH (Monte Carlo, Monaco), Embankment Films Limited (London, United Kingdom), EntertainME US LLC (Hollywood, CA), Entertainment One (Toronto, Ontario, Canada), Exclusive Films International, Limited (Beverly Hills, CA), Filmnation Entertainment (Los Angeles, CA), Fortune Star Media Limited (Kowloon, Hong Kong), GFM Films (London, United Kingdom), Global Asylum, The (Burbank, CA), Gold Lion Films (Los Angeles, CA), Hasbro, Inc. (Burbank, CA), HBO Enterprises (New York, NY), Highland Film Group LLC (West Hollywood, CA), Huayi Brothers Media Corporation (Beijing, China), Hyde Park International (Sherman Oaks, CA), KSM GmbH (Wiesbaden, Germany), Lotte Entertainment (Seoul, South Korea), Mega-Vision Pictures Limited (Kowloon, Hong Kong), MICA Entertainment, LLC (Century City, CA), Mission Pictures International, LLC (Van Nuys, CA), Mister Smith Entertainment Limited (London, United Kingdom), MonteCristo International Entertainment, LLC (Los Angeles, CA), Multicom Entertainment Group, Inc. (Los Angeles, CA), Premiere Entertainment Group, LLC (Encino, CA), Protagonist Pictures Limited (London, United Kingdom), Reel One Entertainment, Inc. (Beverly Hills, CA), Regal Media International (Wanchai, Hong Kong), Relativity Media, LLC (Beverly Hills, CA), Shine International (London, United Kingdom), Sierra/Affinity (Los Angeles, CA), Six Sales Entertainment Group S.L. (Madrid, Spain), Studio City Pictures, Inc. (Studio City, CA), Taylor & Dodge, LLC (Los Angeles, CA), uConnect Films Ltd. (London, United Kingdom), and Vision Music, Inc. (Los Angeles, CA).

2. Remove the following companies as Members of ITFA's Certificate: 111 Pictures Ltd., Action Concept Film und Stuntproduction GmbH, Adriana Chiesa Enterprises SRL, Alain Siritzky Productions (ASP), Alpine Pictures, Inc., American World Pictures, Bold Films L.P., Brainstorm Media, Brightlight Pictures Inc., Capitol Films Limited, Cinamour Entertainment, Cinemavault Releasing, Cinesavvy Inc., Continental Entertainment Capital, DeAPlaneta, Essential Entertainment, Fidec, Film Department (The), First California Bank, Fremantle Corporation (The), GreeneStreet Films, HandMade Films International, ICB Entertainment Finance, Icon Entertainment International, IFD Film & Arts, Ltd., Imagi Studios, Insight Film Releasing Ltd., International Keystone Entertainment, ITN Distribution, Inc., Keller Entertainment Group, Inc., Liberation Entertainment, Inc., Maverick Global, a division of Maverick Entertainment Group, Inc., Media 8 Entertainment, Media Luna Entertainment, Neoclassics Films Ltd., NonStop Sales AB, North by Northwest Entertainment, Oasis International, Odd Lot International, Omega Entertainment, Ltd., Paramount Vantage International, Park Entertainment Ltd., Passport International Entertainment, LLC, Peace Arch Entertainment, Promark/Zenpix, Quantum Releasing LLC, Regent Worldwide Sales LLC, Safir Films, Ltd., Sobini Films, Stevens Entertainment Group, Summit Entertainment, Tandem Communications, Taurus Entertainment Company, U.S. Bank, UGC International, Union Bank of California, Wachovia Bank, Yari Film Group, and York International.

3. Change the names of the following members: 2929 International, LLC of Santa Monica, CA is now 2929 International, American Cinema International of Van Nuys, CA is now American Cinema International Inc., UK Film Council of London, United Kingdom is now BFI—British Film Institute, Filmax Pictures of Barcelona, Spain is now Castelao Pictures, CJ Entertainment Inc of Seoul, Korea is now CJ E&M Corporation, Classic Media, Inc. of New York, NY is now Classic Media, LLC, ContentFilm International of London, United Kingdom is now Content Media Corporation International Limited, Crystal Sky Worldwide Sales LLC of Los Angeles, CA is now Crystal Sky LLC, Ealing Studios International of London, United Kingdom is now Ealing Metro International, Echo Bridge Entertainment of Needham, MA is now Echo Bridge Entertainment LLC, Emperor Motion Pictures of Wanchai, Hong Kong is now Emperor Motion Picture Enterprise Limited, Boll AG of Vancouver, British Columbia, Canada is now Event Film Distribution, Fabrication Films of Los Angeles, CA is now Fabrication Films International LLC, Freeway Entertainment Group Ltd of Budapest, Hungary is now Freeway Entertainment Group BV, Fremantlemedia Enterprises of London, United Kingdom is now FremantleMedia Limited, GK Films, LLC of Santa Monica, CA is now GK Films, Telepool GmbH of Munich, Germany is now Global Screen GmbH, Goldcrest Films International Ltd of London, UK is now Goldcrest Films International, Green Communications of Los Angeles, CA is now Green Films, Inc., Hanway Films of London, UK is now Hanway Films Ltd., Intandem Films of London, UK is now Intandem Films Plc, K5 International of Munich, Germany is now K5 Media Group GmbH, MarVista Entertainment of Los Angeles, CA is now Mar Vista Entertainment, LLC, Miramax Films of Santa Monica, CA is now Miramax International, Moonstone Entertainment of Studio City, CA is now Moonstone Entertainment, Inc., the entity d/b/a Mainline Releasing of Santa Monica, CA is now MRG Entertainment, Inc., New Line Cinema of Burbank, CA is now New Line Cinema Corporation, Nu Image of Los Angeles, CA is now Nu Image, Inc., Pueblo Film Group of Zurich, Switzerland is now Pueblo Film Group of Companies, Film Finance Corporation Australia of Woolloomooloo, Australia is now Screen Australia, RHI Entertainment Distribution, LLC of New York, NY is now Sonar International Distribution, Inc., Hollywood Wizard of Brighton, United Kingdom is now Stealth Media Group Limited, UFO International Productions of Sherman Oaks, CA is now UFO International Productions, LLC, and Works International, The of London, United Kingdom is now Works, The.

Dated: June 13, 2013.
Joseph Flynn,
Director, Office of Competition and Economic Analysis.

[FR Doc. 2013-14597 Filed 6-18-13; 8:45 am]

BILLING CODE 3510-DR-P